DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 73 FR 30406-30408 dated May 27, 2008).

This notice reflects organizational changes in the Health Resources and Services Administration. Specifically, this notice renames the Office of Financial Management (RB) to the Office of Operations (RB); moves the Office of Management (RAM) under the Office of Operations (RB) and moves the Office of Information Technology (RAG) under the Office of Operations (RB).

Chapter RA—Office of the Administrator

Section RA-10, Organization

Delete in its entirety and replace with the following:

The Office of the Administrator (RA) is headed by the Administrator, Health Resources and Services Administration, who reports directly to the Secretary. The OA includes the following components:

(1) Immediate Office of the Administrator (RA);

(2) Office of Equal Opportunity and Civil Rights (RA2);

(3) Office of Planning and Evaluation (RA5);

(4) Office of Communications (RA6);

(5) Office of Minority Health and Health Disparities (RA9);

(6) Office of Legislation (RAE);

(7) Office of International Health Affairs (RAH).

Chapter RB—Office of Operations

Section RB-10, Organization

Delete in its entirety and replace with the following:

The Office of Operations (RB) is headed by the Chief Operating Officer who reports directly to the Administrator, Health Resources and Services Administration. The Office of Operations includes the following components:

(1) Office of the Chief Operating Officer (RB);

(2) Office of Budget (RB1);

(3) Office of Financial Policy and Controls (RB2);

(4) Office of Acquisitions Management and Policy (RB3);

(5) Office of Management (RB4); and

(6) Office of Information Technology (RB5).

Section RB-20, Functions

(1) Rename the Office of Financial Management (RB) to the Office of Operations (RB); (2) delete the functional statement for the Office of Management (RAM) and transfer the function to the Office of Operations (RB); and (3) delete the functional statement for the Office of Information Technology (RAG) and transfer the function to the Office of Operations (RB).

Office of the Chief Operating Officer (RB)

(1) Provides leadership for operational activities, interaction and execution of Agency initiatives across the Health Resources and Services Administration; (2) plans, organizes and manages annual and multi-year budgets and resources and assures that the conduct of Agency administrative and financial management activities effectively support program operations; (3) provides an array of Agency-wide services including information technology, procurement management, facilities, workforce management, and budget execution and formulation; (4) maintains overall responsibility for policies, procedures, monitoring of internal controls and systems related to payment and disbursement activities; (5) provides management expertise, staff advice, and support to the Administrator in program and policy formulation and execution; (6) provides leadership in the development, review and implementation of policies and procedures to promote improved information technology management capabilities and best practices throughout HRSA; (7) coordinates IT workforce issues and works closely with the Department on IT recruitment and training issues; and (8) administers functions of the Chief Financial Office.

Office of Budget (RB1)

(1) Reviews funds control measures to assure that no program, project or activity of HRSA obligates or disburses funds in excess of appropriations or obligates funds in violation of authorized purposes; (2) provides advice and assistance to senior HRSA management to verify the accuracy, validity, and technical treatment of budgetary data in forms, schedules, and reports, or the legality and propriety of using funds for specific purposes; (3) maintains primary liaison to expedite the flow of financial management work and materials within the Agency and/or between Agency components and HHS, Office of Management and Budget (OMB), and congressional staff; (4) provides overall financial-based analyses and fiduciary review for senior HRSA management in order to assure appropriate workforce planning, funds control guidance, and analytical technical assistance in all phases of the budgetary process; and (5) develops the long-range program and financial plan for the Agency in collaboration with the Office of Planning and Evaluation, and other administrative Agency components.

Division of Budget Formulation and Presentation (RB11)

(1) Manages and coordinates development of the Administration's budget for HRSA from independent submissions prepared by Bureau/Office contacts; (2) formulates the total HRSA financial plan for the Administrator, evaluates and assures total Agency budget requests conform to current Administration policy and economic assumptions; (3) coordinates performance measures pursuant to the Government Performance and Results Act with budget proposals; (4) represents, supports and defends the HRSA budget in meetings/hearings before the Office of the Secretary, OMB, and the Congress; (5) provides policy direction and guidance for the preparation and consolidation of the budget and its transmittal to OMB through information technology; (6) analyzes proposed legislation and subsequent congressional action for budgetary implications; (7) prepares periodic summary analysis and impact statements on budget allowances and applicable congressional actions; (8) develops all financial and personnel staffing aspects of HRSA's implementation plans for establishing new or phasing out existing programs; (9) develops analyses of proposed budget estimates and supporting narrative through the use of available financial data reporting systems for Agency senior management; (10) maintains liaison with the Office of the Secretary and the OMB, the General Accountability Office, other Government organizations, and the Congress on HRSA's financial management matters; (11) consults with the Office of Program Evaluation to provide guidance and advice in implementing performance systems, including the Performance Assessment and Rating Tool assessments, Key Performance Indicators, and HRSA's Government Performance Results Act program; (12) collaborates with other parts of HRSA in the development and implementation of long-range program and financing plans; (13) completes chain-of-command requirements in timing and reporting of cleared information to parties outside the Executive Branch (i.e., the Congress, media, public); and (14) appropriately safeguards all embargoed information and all draft materials to maintain integrity of data, and secure work information.

Division of Budget Execution and Management (RB12)

(1) Provides budget policy interpretation, management guidance and direction for senior HRSA management; (2) conducts the HRSA budget control process in conformance with statutory requirements and OMB guidelines; (3) approves program spending plans and obtains apportionment of funds from the OMB; (4) establishes and maintains a system of budgetary fund and position control; (5) provides senior HRSA management status and activity reports on total funds control and position control activities throughout the fiscal year; (6) administers and reviews requests for apportionments and allotments; (7) reviews, controls, and reports obligations and expenditures through central monitoring and advice to Bureau/Office management officials; (8) verifies funds available to Central HRSA Offices, and the propriety of using appropriated and non-appropriated funds for the requested purposes for which the funds have been proposed for expenditure through commitment accounting; (9) develops and interprets budgetary policies and practices for operating units of the Agency including analysis and approval for all equipment, supplies, travel, transportation and services procured by HRSA, and ensures the validity, legality and proper accounting treatment of expenditures processed through the UFMS; (10) controls the Agency's processes of allotment, allocation, obligation, and expenditure of funds in approved annual operating plans for all HRSA accounts; (11) monitors Bureau obligations in current allocations, disbursements and outlays; notifies Bureaus of potential deficiencies in allotments and allowances for specific periods for corrective action by Bureau staff; (12) maintains primary liaison between HRSA and the Program Support Center's Financial Operations Center for accounting functions; (13) maintains tracking of inputs into HRSA account for the central HHS accounting system (UFMS), which includes the examination, verification, and maintenance of accounts and accounting data within the accounting system; (14) provides standardized accounting codes across the Agency, performs technical audit functions, develops and/or installs revised accounting procedures, and serves as primary administrator of systems accounting functions within HRSA; (15) provides appropriate tracking of all “fee-for-service” charges to HRSA from other HHS components and outside entities; and (16) manages the centralized HRSA Pay Management for allocation of staff and position management.

Division of Program Budget Services (RB13)

(1) Provides direct budget execution services to assigned program components working with appropriate program management officials; (2) coordinates budget services through formalized and integrated communications with program management officials or their designees to ensure effective and efficient delivery of services to its customers; (3) supports the formulation of annual budgets, develops spending plans and manages budget activities ensuring funds are expended in accordance with congressional intent; (4) provides reports on program activities to Budget Execution and Management Staff for control of commitment accounting within allotments and allowances and for position control activities; (5) analyzes and maintains reports on disbursements and changing obligations within closed year accounts for assigned program components; and (6) assures all open documents are closed without outstanding balances.

Office of Financial Policy and Controls (RB2)

(1) Chief Financial Officer (CFO) serves as liaison with all HRSA Bureau/Office components and outside customers to provide financial information, resolve problems, and provide information on payment, and disbursement issues; (2) maintains overall responsibility for policies, procedures, monitoring of internal controls and systems related to payment and disbursement activities; (3) coordinates the development and improvement of HRSA's financial systems with the UFMS; (4) samples obligation documents and payment requests from a variety of private sector and Government sources to determine the validity and legality of the requests; (5) compiles and submits a variety of cash management and travel reports required by the Department of the Treasury and various other outside agencies; (6) provides leadership to define the control environment with Senior HRSA management to perform risk assessments identifying the most significant areas necessary for internal control placements; (7) analyzes internal reports to provide management information on special interest topics; (8) develops needs assessment for financial management training based on Government-wide and HHS standards; and (9) assures Treasury requirements and OMB suggestions for best practices are implemented in training plan for Agency-wide use.

Division of Internal Controls (RB21)

(1) Coordinates risk assessments identifying the most significant areas necessary for internal control placements; (2) analyzes and reconciles disbursements made for HRSA by other Federal activities, and insures that disbursements are consistent with Federal Appropriations Law requirements, GAO policies, interagency elimination entry requirements, and other governing financial regulations; (3) analyzes year-end unliquidated obligations for compliance with Federal Appropriations Laws and the Economy Act, and recommends funding changes to senior HRSA management; (4) reviews and reconciles all U.S. Treasury Department reports and transmissions; (5) performs ongoing quality control reviews of various payment and disbursement processes and systems in the Office of Operations; and (6) develops needs assessment for financial management training based on Government-wide and HHS standards. Assures Treasury requirements and OMB suggestions for best practices are implemented in training plan for Agency-wide use.

Division of Financial Policy and Analysis (RB22)

(1) Defines the control environment (e.g., programs, operations, or financial reporting) with Senior HRSA management; (2) maintains overall responsibility for policies, procedures, monitoring of internal controls and systems related to payment and disbursement activities; (3) conducts analyses to inform Office of Operations and Senior HRSA management of relevant financial information, potential problems/solutions, and information on payment, travel, and disbursement issues; and (4) reviews policy documents, Inter/Intra-Agency agreements and Agency materials for financial consistency with internal controls and disbursement requirements; (5) conducts analyses of management and operational problems in terms of financial management information; (6) analyzes the design, implementation, enhancement and documentation of automated financial systems within the Office of Operations to assist management in operating more efficiently; (7) provides consultative services to systems implementers within HRSA on a broad range of issues including policy, data integrity, systems integration and interfacing issues as they relate to financial management systems; (8) provides technical support and assistance to operating components and users in the integration of financial systems and the access and interpretation of financial system data; (9) analyzes and offers recommendations concerning the costs and benefits of alternative methods of financing Agency programs and administrative operations; (10) prepares long-range resource projections for the acquisition and use of funds to support specific Agency projects and programs; (11) facilitates the review of HRSA audit activities in compliance with the Chief Financial Officer's Act of 1990; and (12) provides support to the Annual Financial Statements by monitoring statement of net cost, preparing management representation correspondence, cycle memoranda and serves as audit liaison to the combined HHS Combined Financial Statement.

Office of Acquisitions Management and Policy (RB3)

(1) Provides leadership in the planning, development, and implementation of policies and procedures for contracts; (2) exercises the sole responsibility within HRSA for the award and management of contracts; (3) provides advice and consultation of interpretation and application of the Department of Health and Human Services' policies and procedures governing contracts management; (4) develops operating procedures and policies for the Agency's contracts programs; (5) establishes standards and guides for and evaluates contracts operations throughout the Agency; (6) coordinates the Agency's positions and actions with respect to the audit of contracts; (7) maintains liaison directly with or through Agency Bureaus or Offices with contractors, other organizations, and various components of the Department; (8) provides leadership, guidance, and advice on the promotion of the activities in HRSA relating to procurement and material management governed by the Small Business Act of 1958, Executive Order 11625, and other statutes and national policy directives for augmenting the role of private industry, and small and minority businesses as sources of supply to the Government and Government contractors; and (9) plans, directs, and coordinates the Agency's sourcing program.

Division of Contracts Operations (RB31)

(1) Responsible for soliciting, negotiating, awarding, and administering negotiated contracts in support of HRSA programs and activities; (2) provides professional, in-depth advice and consultation to HRSA staff regarding the various phases of the acquisition cycle relating to contracts awarded by the Agency; (3) conducts pre-award reviews of proposed contracts that exceed the requirements called for in the Federal and departmental acquisition regulations; (4) plans and coordinates acquisition reviews of contracting activities within HRSA headquarters and the field components; and (5) responds to congressional inquiries and requests for acquisition information from other Federal agencies and non-Federal sources.

Division of General Acquisitions (RB32)

(1) Plans, negotiates and awards simplified acquisitions for headquarters and field components; (2) administers HRSA's acquisition data retrieval system; (3) oversees system and inputs data to the automated contracts reporting system; and reviews the PRISM reports and obtains specific information from various outside sources; (4) takes necessary actions regarding close out of both negotiated contracts and simplified acquisitions in support of HRSA programs; (5) provides a full range of in-depth advice and consultation regarding acquisition matters relating to the simplified acquisition to headquarters and field contracting activities; (6) conducts and monitors the performance of the HRSA purchase card IMPAC program for headquarters and field offices; (7) responds to congressional inquiries and requests for information from other departments and non-Federal sources on simplified acquisitions; (8) reviews and provides necessary recommendations on the disposition of awards which result in mistakes of bids, protests, and unauthorized obligations; (9) responsible for administration of the training and certification program for acquisition officials; (10) responsible for close-out of completed contracts and purchase orders; and (11) manages the Inter/Intra-Agency agreements.

Office of Management (RB4)

Provides Agency-wide leadership, program direction, and coordination of all phases of administrative management. Specifically, the Office of Management: (1) Provides management expertise, staff advice, and support to the Administrator in program and policy formulation and execution; (2) provides administrative management services including human resources, procurement, property, space planning, safety, physical security, and general administrative services; (3) conducts Agency-wide workforce analysis studies and surveys; (4) plans, directs, and coordinates the Agency's activities in the areas of human resources management, including labor relations, personnel security, performance and alternative dispute resolution; (5) coordinates the development of policy and regulations; (6) oversees the development of annual operating objectives and coordinates HRSA work planning and appraisals; (7) directs and coordinates the Agency's organizations, functions and delegations of authority programs; (8) manages the Continuity of Operations (COOP) program for the Offices supported by the Office of Management; (9) administers the Agency's Executive Secretariat and committee management functions; (10) provides staff support to the Agency Chief Travel Official; and (11) provides staff support to the Deputy Ethics Counselor.

Division of Policy Review and Coordination (RB41)

(1) Advises the Administrator and other key Agency officials on cross-cutting policy issues and assists in the identification and resolution of cross-cutting policy issues and problems; (2) establishes and maintains tracking systems that provide Agency-wide coordination and clearance of policies, regulations and guidelines; (3) plans, organizes and directs the Agency's Executive Secretariat with primary responsibility for preparation and management of written correspondence; (4) arranges briefings for Department officials on critical policy issues and oversees the development of necessary briefing documents; (5) administers administrative early alert system for the Agency to assure senior Agency officials are informed about administrative actions and opportunities; (6) coordinates the preparation of proposed rules and regulations relating to Agency programs and coordinates Agency review and comment on other Department regulations and policy directives that may affect the Agency's programs; (7) manages and maintains a records management program for the Agency; (8) oversees and coordinates the Agency's committee management activities; (9) coordinates the review and publication of Federal Register Notices; (10) provides advice and guidance for the establishment or modification of administrative delegations of authority; (11) provides advice and guidance for the establishment or modification of program delegations of authority; and (12) contributes to the analysis, development and implementation of Agency-wide administrative policies through coordination with relevant Agency program components and other related sources.

Division of Workforce Management (RB42)

(1) Conducts Agency-wide workforce analysis studies and surveys; (2) develops comprehensive workforce strategies that meet the requirements of the President's Management Agenda, programmatic needs of HRSA, and the governance and management needs of HRSA leadership; (3) evaluates employee development practices to develop and enhance strategies to ensure HRSA retains a cadre of public health professionals and reduces risks associated with turnover in mission critical positions; (4) provides advice and guidance for the establishment or modification of organization structures, functions, and delegations of authority; (5) manages ethics and personnel security programs; (6) administers the Agency's performance management programs, including the SES Performance Review Board; (7) manages quality of work life, flexi place, and incentive and honor awards programs; (8) coordinates with the service provider the provision of human resources management, working with the service provider to communicate human resources requirements and monitoring the provider's performance; (9) directs and serves as a focal point for the Agency's intern and mentoring programs; (10) manages the Alternative Dispute Resolution Program; and (11) provides support and guidance on human resources issues for the Offices supported by the Office of Management.

Division of Management Services (RB43)

(1) Provides administrative management services including procurement, property, space planning, safety, physical security, and general administrative services; (2) ensures implementation of statutes, Executive Orders, and regulations related to official travel, transportation, and relocation; (3) provides oversight for the HRSA travel management program involving use of travel management services/systems, passenger transportation, and travel charge cards; (4) provides planning, management and oversight of all interior design projects, move services and furniture requirements; (5) develops space and furniture standards and related policies; (6) provides analysis of office space requirements required in supporting decisions relating to the acquisition of commercial leases and manages the furniture inventory; (7) provides advice, counsel, direction, and support to employees to fulfill the Agency's primary safety responsibility of providing a workplace free from recognizable safety and health concerns; (8) manages, controls, and/or coordinates all matters relating to mail management within HRSA, including developing and implementing procedures for the receipt, delivery, collection, and dispatch of mail; (9) maintains overall responsibility for the HRSA Forms Management Program which includes establishing internal controls to assure conformity with departmental policies and standards, including adequate systems for reviewing, clearing, costing, storing and controlling forms; and (10) manages the Continuity of Operations (COOP) program for the Offices supported by the Office of Management.

Office of Information Technology (RB5)

The Chief Information Officer (CIO) is responsible for the organization, management, and administrative functions necessary to carry out the responsibilities of the office including: (1) Organizational development, investment control, budget formulation and execution, policy development, strategic and tactical planning, and performance monitoring; (2) provides leadership in the development, review and implementation of policies and procedures to promote improved information technology management capabilities and best practices throughout HRSA; and (3) coordinates IT workforce issues and works closely with the Department on IT recruitment and training issues.

The Chief Technology Officer (CTO) is responsible for HRSA's emerging and advanced technology integration program consistent with HRSA's missions and program objectives including: (1) Managing technology planning and coordinating the Agency's Enterprise Architecture (EA) efforts with the capital planning process, ensuring the suitability and consistency of technology investments with HRSA's EA and strategic objectives; (2) incorporating security standards as a component of the EA process; (3) providing leadership for strategic planning that leverages information systems security, program strategies, and advanced technology integration to achieve program objectives through innovative technology use; and (4) providing leadership and establishing policy to address legislative or regulatory requirements, such as Section 508 of the Rehabilitation Act, and providing oversight for Agency IT configuration management and control.

The Chief Information Security Officer (CISO) is responsible for: (1) Leadership and collaboration with Agency staff to oversee the implementation of security and privacy policy in the management of their IT systems, and plans all activities associated with the Federal Information Security Management Act (FISMA) or other agency security and privacy initiatives; (2) implementing, coordinating, and administering security and privacy programs to protect the information resources of HRSA in compliance with legislation, Executive Orders, directives of the OMB, or other mandated requirements; e.g., Presidential Decision Directive 63, OMB Circular A-130, the National Security Agency, the Privacy Act, and other Federal agencies; (3) executing the Agency's Risk Management Program, and evaluates and assists with the implementation of safeguards to protect major information systems, and IT infrastructure; (4) coordinating with the Division of IT Operations and Customer Service to develop and implement HRSA level policies, procedures, guidelines, and standards for the incorporation of intrusion detection systems, vulnerability scanning, forensic and other security tools used to monitor automated systems and subsystems to safeguard HRSA's electronic information and data assets; and (5) managing the development, implementation, and evaluation of the HRSA information technology security and privacy training program to meet the requirements as mandated by OMB Circular A-130, the Computer Security Act, and Privacy Act.

Division of Business Information Management (RB51)

(1) Provides consultation, assistance, and services to HRSA to promote and manage information dissemination and collaboration practices using appropriate electronic media; (2) evaluates and integrates emerging technology to facilitate the translation of data and information from data repositories into electronic formats for internal and external dissemination; (3) collaborates with the Office of Communications on the design, deployment, and maintenance of HRSA's Internet and Intranet Web sites including development and implementation of related policies and procedures; (4) develops and maintains an overall data and information management strategy for HRSA that is integrated with HHS and Government-wide strategies; (5) identifies information needs across HRSA and develops approaches for meeting those needs using appropriate technologies including development and maintenance of an enterprise reporting platform; (6) provides for data quality and ensures that data required for enterprise information requirements are captured in appropriate enterprise applications and that necessary data repositories are built and maintained; (7) enhances and expands use and utility of HRSA's data by providing basic analytic and user support, develops and maintains a range of information products for internal and external users and demonstrates potential uses of information in supporting management decisions; and (8) provides leadership and establishes policy to address legislative or regulatory requirements in its areas of responsibility.

Division of Capital Planning and Project Management (RB52)

(1) Coordinates the development and review of policies and procedures for IT Capital Planning and Investment Control, Earned Value Management, IT portfolio management, IT project management, and the enterprise performance lifecycle methodology; (2) administers the Department's multi-year strategic information resources planning process, including developing and administering the Department's Strategic IT Plan, supports the Budget Office in its evaluation of IT initiatives, and preparation of Agency, departmental, and OMB Budget Exhibits and documents; (3) works to obtain required information and analyzes it as appropriate; (4) coordinates control and evaluation review of ongoing IT projects, including support to the HRSA ITIRB in conducting such review; (5) promotes and follows a consistent methodology for project management and improves Agency-wide project management; and (6) operates a Project Management Office to improve management, communications and functional user involvement, assists with project prioritization, and monitors progress and budget.

Division of Enterprise Solutions Development and Management (RB53)

(1) Provides leadership, consultation, and IT project management services in the definition of Agency business applications architectures, the engineering of business processes, the building and deployment of applications, and the development, maintenance and management of enterprise systems and data collections efforts; (2) responsible for technology evaluation, application and data architecture definition, controlling software configuration management, data modeling, database design, development and management and stewardship services for business process owners; (3) manages the systems development lifecycle by facilitating business process engineering efforts, systems requirements definition, and provides oversight for application change management control; and (4) provides enterprise application user training, Tier-3 assistance, and is responsible for end-to-end application building, deployment, maintenance and data security assurance.

Division of IT Operations and Customer Services (RB54)

(1) Provides leadership, consultation, training, and management services for HRSA's enterprise computing environment; (2) directs and manages the support and acquisition of HRSA network and desktop hardware, servers, wireless communication devices, and software licenses; (3) responsible for the HRSA Data Center and the operation and maintenance of a complex, high-availability network infrastructure on which mission-critical applications are made available 24 hours per day, 7 days per week; (4) provides oversight for outsourced electronic mail, Internet and connectivity, web and video conferencing, and co-managed firewall and security monitoring services; (5) controls infrastructure configuration management, installations and upgrades, security perimeter protection, and system resource access; (6) coordinates IT activities for Continuity of Operations Planning (COOP) Agency-wide, including provisioning and maintaining IT infrastructure and hardware at designated COOP locations to support emergency and COOP requirements; (7) accounts for property life cycle management and tracking of Agency-wide IT capital equipment; and (8) provides oversight for outsourced Tier-1 and Tier-2 Help Desk Call Center technical assistance, maintains workstation hardware and software configuration management controls, and provides oversight of outsourced network and desktop services to staff in HRSA Regional Offices.

Section RB-30, Delegations of Authority

All delegations of authority and re-delegations of authority made to HRSA officials that were in effect immediately prior to this reorganization, and that are consistent with this reorganization, shall continue in effect pending further re-delegation.

This reorganization is effective upon the date of signature.

July 23, 2009.
Mary K. Wakefield,
Administrator.

[FR Doc. E9-18036 Filed 7-28-09; 8:45 am]

BILLING CODE 4165-15-P